DEPARTMENT OF ENERGY

Federal Energy Regulatory Commission

Notice of Applications Ready for Environmental Analysis and Soliciting Comments, Recomendations, Terms and Conditions, and Prescriptions

February 13, 2002.

Take notice that the following hydroelectric applications have been filed with the Commission and are available for public inspection.

a. Type of Application: New Major Licenses.

b. Projects: Soda Project No. 20-019, Grace-Cove Project No. 2401-007, and Oneida Project No. 472-017.

c. Date filed: September 27, 1999.

d. Applicant: PacifiCorp.

e. Location: On the Bear River in Caribou and Franklin Counties, Idaho. The projects are partially located on United States lands administered by the Bureau of Land Management.

f. Filed Pursuant to: Federal Power Act, 16 U.S.C. §§ 791 (a)-825(r).

g. Applicant Contact: Randy Landolt, Managing Director, Hydro Resources, PacifiCorp, 825 NE Multnomah Street, Suite 1500, Portland, OR 97232, (503) 813-6650; or Thomas H. Nelson, 825 NE Multnomah Street, Suite 925, Portland, OR 97232, (503) 813-5890.

h. FERC Contact: Susan O'Brien, e-mail address susan.obrien@ferc.fed.us, or (202) 219-2840.

i. Deadline for filing comments, recommendations, terms and conditions, and prescriptions: 60 days from the issuance of this notice.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's Web site, http://www.ferc.gov, under the “e-Filing” link.

j. This application has been accepted, and is ready for environmental analysis at this time.

k. The existing Soda Project consists of: (1) The 103-foot-high and 433-foot-long concrete gravity Soda dam with a 114-foot-long spillway section; (2) the Soda reservoir with a surface area of 1,100 acres, an active storage capacity of 16,300 acre-feet, and a maximum water surface elevation of 5,720 feet; (3) the Soda powerhouse containing two units with a total installed capacity of 14 megawatts (MW); and (4) other appurtenances.

The existing Grace Development consists of: (1) A 51-foot-high and 180-foot-long rock filled timber crib dam that creates a 250-acre-foot usable storage capacity forebay; (2) a 26,000-foot-long flowline and surge tanks; and (3) a powerhouse with three units with total installed capacity of 33 MW. The Cove Development consists of: (1) A 26.5-foot-high and 141-foot-long concrete dam creating a 60-acre-foot capacity forebay; (2) a 6,125-foot-long concrete and wood flume; (3) a 500-foot-long steel penstock; and (4) a powerhouse with a 7.5-MW unit.

The existing Oneida Project consists of: (1) The 111-foot-high and 456-foot-long concrete gravity Oneida dam; (2) the Oneida reservoir with an active storage of 10,880 acre-feet and a surface area of 480 acres; (3) a 16-foot-diameter, 2,240-foot-long flowline; (4) a surge tank; (5) three 12-foot-diameter, 120-foot-long steel penstocks; ( 6) the Oneida powerhouse with three units with a total installed capacity of 30 MW; and (7) other appurtenances.

l. A copy of the application is on file with the Commission and is available for public inspection. This filing may also be viewed on the Web at http://www.ferc.gov using the “RIMS” link—select “Docket #” and follow the instructions (call 202-208-2222 for assistance). A copy is also available for inspection and reproduction at the address in item g above.

m. The Commission directs, pursuant to section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

All filings must (1) bear in all capital letters the title “COMMENTS”, “REPLY COMMENTS”, “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-4037 Filed 2-19-02; 8:45 am]

BILLING CODE 6717-01-P